DEPARTMENT OF THE INTERIOR

National Park Service

[NPS-WASO-NAGPRA-NPS0039480; PPWOCRADN0-PCU00RP14.R50000]

Notice of Intended Disposition: U.S. Department of the Interior, National Park Service, Aniakchak National Monument and Preserve, King Salmon, AK

AGENCY: National Park Service, Interior.

ACTION: Notice.

SUMMARY: In accordance with the Native American Graves Protection and Repatriation Act (NAGPRA), the U.S. Department of the Interior, National Park Service, Aniakchak National Monument and Preserve (ANIA) intends to carry out the disposition of human remains removed from Federal or Tribal lands to the lineal descendants, Indian Tribe, or Native Hawaiian organization with priority for disposition in this notice.

DATES: Disposition of the human remains in this notice may occur on or after April 17, 2025. If no claim for disposition is received by March 18, 2026, the human remains in this notice will become unclaimed human remains.

ADDRESSES: Mark Sturm, Superintendent, Aniakchak National Monument and Preserve, P.O. Box 7, King Salmon, AK 99613, telephone (907) 246-2120, email mark_sturm@nps.gov.

SUPPLEMENTARY INFORMATION: This notice is published as part of the National Park Service's administrative responsibilities under NAGPRA. The determinations in this notice are the sole responsibility of the Superintendent, ANIA, and additional information on the human remains in this notice, including the results of consultation, can be found in the related records.

Abstract of Information Available

Based on the information available, human remains representing, at least one individual has been reasonably identified from an archaeological site known as the Aniakchak Bay Village Site, state site SUT-027. No associated funerary objects are present.

From 2004-2007, NPS archeologists excavated this large village site in Aniakchak Bay (Lake and Peninsula Borough, Alaska) along the ANIA coast. No human remains were encountered or identified during excavation. During analysis of the animal fauna recovered from the site, 12 human bones were reported: seven deciduous (baby) teeth, three permanent (adult) teeth, and two phalanges (toe) bones. The teeth and phalanges were not associated with any other human remains. These human remains are stored at the Alaska Regional Curatorial Center (ARCC) at the NPS Regional Office in Anchorage, AK.

Determinations

ANIA has determined:

• The human remains described in this notice represent the physical remains of at least one individual of Native American ancestry.

• The Chignik Bay Tribal Council; Chignik Lake Village; Native Village of Chignik Lagoon; Native Village of Perryville; Native Village of Pilot Point; and the Native Village of Port Heiden have priority for disposition of the human remains described in this notice.

Claims for Disposition

Written claims for disposition of the human remains in this notice must be sent to the appropriate official identified in this notice under ADDRESSES. If no claim for disposition is received by March 18, 2026, the human remains in this notice will become unclaimed human remains. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains in this notice may occur on or after April 17, 2025. If competing claims for disposition are received, ANIA must determine the most appropriate claimant prior to disposition. Requests for joint disposition of the human remains are considered a single request and not competing requests. ANIA is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: February 4, 2025.
Melanie O'Brien,
Manager, National NAGPRA Program.

[FR Doc. 2025-04368 Filed 3-17-25; 8:45 am]

BILLING CODE 4312-52-P